DEPARTMENT OF COMMERCE

Submission for OMB Review; Comment Request

The Department of Commerce will submit to the Office of Management and Budget (OMB) for clearance the following proposal for collection of information under the provisions of the Paperwork Reduction Act (44 U.S.C. Chapter 35).

AGENCY: National Oceanic and Atmospheric Administration (NOAA).

Title: Interim Capital Construction Fund Agreement and Certificate Family of Forms.

Form Number(s): 88-14.

OMB Approval Number: 0648-0090.

Type of Request: Regular submission.

Burden Hours: 2,250.

Number of Respondents: 1,000.

Average Hours per Response: Application and agreement document, each 30 minutes; Schedules A and B, 50 minutes, certificate of completion, 1 hour.

Needs and Uses: The Capital Construction Fund Program allows commercial fishermen to enter into agreements with the Secretary of Commerce to establish accounts to fund the construction, reconstruction, or replacement of a fishing vessel. Monies placed into the accounts receive tax deferral benefits. Persons must apply for the program to establish their eligibility.

Affected Public: Business or other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 3, 2007.
Gwellnar Banks,
Management Analyst, Office of the Chief Information Officer.

[FR Doc. E7-13217 Filed 7-6-07; 8:45 am]

BILLING CODE 3510-22-P